DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 12, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Housing Service

Title: 7 CFR part 1924-A, Planning and Performing Construction and Other Development.

OMB Control Number: 0575-0042.

Summary of Collection: The Rural Housing Service (RHS) is the credit Agency for rural housing and community development within Rural Development of the United States Department of Agriculture. The Agency offers a supervised credit program to build modest housing and essential community facilities in rural areas. This regulation prescribes the policies and responsibilities, including the information and collection necessary to demonstrate compliance with applicable acts for planning and performing development work for these facilities. Section 501 of Title V of the Housing Act of 1949, as amended, authorizes the Secretary of Agriculture to extend financial assistance to construct, improve, alter, repair, replace, or rehabilitate dwellings, farm buildings and/or related facilities to provide decent, safe, sanitary living conditions and adequate farm buildings and other structures in rural areas. Section 506 of the Act requires that all new buildings and repairs shall be constructed in accordance with plans and specifications as required by the Secretary and that such construction be supervised and inspected. Section 509 of the Act grants the Secretary the power to determine and prescribe the standards of adequate farm housing and other buildings. The Housing and Urban Rural Recovery Act of 1983 amended section 509(a) and section 515 to require residential buildings and related facilities comply with the standards prescribed by the Secretary of Agriculture, the standards prescribed by the Secretary of Housing and Urban Development, or the standards prescribed in any of the nationally recognized model building codes. Similar authorizations are contained in sections 303, 304, 306, and 339 of the Consolidated Farm and Rural Development Act, as amended, which authorized loans and grants for essential community services. In several sections of both acts, loan limitations are established as percentages of development costs, requiring careful monitoring of those costs. Also, the Secretary is authorized to prescribe regulations to ensure that Federal funds are not wasted or dissipated, and that construction will be undertaken economically and will not be of elaborate or extravagant design or materials.

Need and Use of the Information: RHS provides several forms to assist in the collection and submission of information. The information is used by Rural Development to determine whether a loan/grant can be approved, to ensure that Rural Development has adequate security for the loans financed, to provide for sound construction and development work, and to determine that the requirements of the applicable acts have been met. The information is also used to monitor compliance with the terms and conditions of the loan/grant and to monitor the prudent use of Federal funds.

Description of Respondents: Individuals or households; Business or other for-profit; Not-for-profit institutions; Farms; State, Local and Tribal Government.

Number of Respondents: 12,425.

Frequency of Responses: Recordkeeping; Report: On occasion.

Total Burden Hours: 51,572.

Rural Housing Service

Title: Multi-Family Housing Preservation and Revitalization Restructuring Demonstration Program (MPR).

OMB Control Number: 0575-0190.

Summary of Collection: The Consolidated Appropriations Act, 2016, Public Law No: 114-113, signed December 18, 2015, authorized USDA to conduct a demonstration program for the preservation and revitalization of the sections 514, 515, and 516 multi-family rental housing properties to restructure existing USDA/Multi-Family Housing (MFH) loans expressly to ensure the project has sufficient resources to provide safe and affordable housing for low-income residents and farm laborers under the programs authorized by the Housing Act of 1949, as amended (42 U.S.C. 1484, 1485 and 1486). The authorities to be demonstrated through this program will allow the Agency to test the efficacy of many of the preservation and revitalization tools identified in a fiscal year 2004 study report titled, “Rural Rental Housing—Comprehensive Property Assessment and Portfolio Analysis.” This report has subsequently been followed up in a report which again reviewed the section 515 Rural Rental Housing (RRH) loan portfolio and examined the degree of impact the repairs had made on the overall portfolio. It concluded that although the portfolio has been well managed, it has continued to mature and needs attention now to assure that it can continue to deliver decent, safe and sanitary affordable rental housing into the future.

Need and Use of the Information: The Agency will be collecting information from the proposer to evaluate the strengths and weaknesses to which the proposal concept possesses or lacks the attributes set forth in the proposed content and evaluation criteria. RHS will use the collected information to select the most feasible proposals that will enhance the Agency's chances in accomplishing the demonstration objective. The information will be utilized to sustain and modify RHS' current policies pertaining to revitalization and preservation of affordable rental housing in rural areas.

Description of Respondents: Private sector; Not-for-profit institutions.

Number of Respondents: 150.

Frequency of Responses: Recordkeeping; Reporting: Annually.

Total Burden Hours: 11,180.

Levi S. Harrell,
Departmental Information Collection Clearance Officer.

[FR Doc. 2024-18016 Filed 8-12-24; 8:45 am]

BILLING CODE 3410-XV-P